DEPARTMENT OF THE INTERIOR

Bureau of Reclamation

Status Report of Water Service, Repayment, and Other Water-Related Contract Actions

AGENCY: Bureau of Reclamation, Interior.

ACTION: Notice.

SUMMARY: Notice is hereby given of contractual actions that have been proposed to the Bureau of Reclamation and are new, modified, discontinued, or completed since the last publication of this notice on July 22, 2010. From the date of this publication, future notices during this calendar year will be limited to new, modified, discontinued, or completed contract actions. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Services Division, Bureau of Reclamation, P.O. Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in This Document

ARRA American Recovery and Reinvestment Act of 2009

BCP Boulder Canyon Project

Reclamation Bureau of Reclamation

CAP Central Arizona Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract action:

19. East Columbia Basin ID, Columbia Basin Project, Washington: Amendment No. 1 to Supplement No. 2 to the 1976 Master Water Service Contract providing for the delivery of up to an additional 5,450.5 acre-feet of project water for the irrigation of 1,816.8 additional acres located within the Odessa Subarea under this contract.

Mid-Pacific Region: Bureau of Reclamation, 2800 Cottage Way, Sacramento, California 95825-1898, telephone 916-978-5250.

New contract actions:

44. San Luis WD, Meyers Farms Family Trust, and Reclamation, CVP, California: Revision of an existing contract between San Luis WD, Meyers Farms Family Trust, and Reclamation providing for an increase in the exchange of water from 6,000 to 10,000 acre-feet and an increase in the storage capacity of the bank to 100,000 acre-feet.

45. San Joaquin Valley National Cemetery, U.S. Department of Veteran Affairs, Delta Division, CVP, California: Negotiation of a 5-year wheeling agreement with an effective date of March 2011 is pending. The current wheeling agreement with the State of California, Department of Water Resources expires February 28, 2011. The renewed long-term water service contract for up to 850 acre-feet was executed February 28, 2005, for 25 years.

46. Byron-Bethany ID, CVP, California: The current wheeling agreement, which has a February 28, 2012, expiration date, is under negotiation. The wheeling agreement with the State of California, Department of Water Resources, allows for the conveyance and delivery of CVP water on behalf of Byron-Bethany ID to Musco Family Olive Company through the California State Aqueduct. The renewed long-term water service contract was executed July 25, 2005, for 25 years.

Modified contract action:

13. Byron-Bethany ID, CVP, California: Long-term Warren Act contract for conveyance of nonproject water in the Delta-Mendota Canal, and a proposed long-term three-party operational water exchange contract amongst Byron-Bethany ID, Reclamation, and the City of Tracy. The exchange of nonproject water is for treatment and ultimate delivery to Tracy Hills Development.

Completed contract actions:

7. El Dorado ID, CVP, California: Execution of long-term Warren Act contracts for conveyance of nonproject water (one contract for Weber Reservoir and pre-1914 ditch rights in the amount of 4,560 acre-feet annually, and one contract for Project 184 water in the amount of 17,000 acre-feet annually). The contracts will allow CVP facilities to be used to deliver nonproject water to the District for use within its service area. The Weber Reservoir and pre-1914 ditch rights contract for 4,560 acre-feet was executed on September 9, 2010. The contract for 17,000 acre-feet of Project 184 water remains pending.

18. San Joaquin Valley National Cemetery, U.S. Department of Veteran Affairs, Delta Division, CVP, California: Renewal of the long-term water service contract for up to 850 acre-feet. The contract was executed February 28, 2005. The wheeling agreement for conveyance through the California State Aqueduct was executed on March 19, 2010.

Lower Colorado Region: Bureau of Reclamation, P.O. Box 61470 (Nevada Highway and Park Street), Boulder City, Nevada 89006-1470, telephone 702-293-8192.

New contract actions:

25. Arizona Water Company (Superstition System), CAP, Arizona: Proposed Amendment No. 1 to Arizona Water Company's subcontract to allow for the annual delivery of up to 6,285 acre-feet of CAP water for M&I purposes within its Superstition System.

26. Valley Utilities Water Company, CAP, Arizona: Proposed transfer of Valley Utilities' 250 acre-feet per year CAP entitlement to the Central Arizona Water Conservation District to meet its Central Arizona Ground Water Replenishment District function.

27. Arizona-American Water Company and Lake Havasu City, BCP, Arizona: Proposed exhibit revisions to the Company's and Lake Havasu's contract service areas to include certain lands into Lake Havasu's contract service area and simultaneously exclude those same lands from the Company's contract service area.

28. San Carlos Apache Tribe and the Town of Gilbert, CAP, Arizona: Execute a 1-year lease for the delivery of not to exceed 20,000 acre-feet of CAP water from the Tribe to the Town.

Completed contract actions:

5. City of Yuma, BCP, Arizona: Supplemental and amendatory contract to provide for additional point of delivery for a new pump station to be constructed on the Gila Gravity Main Canal, with initial intake capacity of 20 million gallons per day, building up to 40 million gallons per day at full design capacity. Contract executed March 31, 2010.

14. City of Needles and the Metropolitan Water District of Southern California, LCWSP, California: Proposed amendment No. 1 to Contract No. 06-XX-30-W0452 to extend the timeframe for completion of a study that is required by the contract and to address the deposits to be made by the District into the trust fund account. Contract executed May 3, 2010.

18. Arizona-American Water Company, BCP, Arizona: Amend Exhibit C to Contract No. 00-XX-30-W0391 to include an emergency interconnection with Lake Havasu City as a point of delivery. Contract executed May 8, 2010.

19. Mohave County Water Authority, BCP, Arizona: Amend Exhibit D to Contract No. 5-07-30-W0320 to (1) Delete the reference to a subcontract dated August 12, 2004, with Arizona-American Water Company for 950 acre-feet of fifth- and/or sixth-priority water because that subcontract has been terminated; (2) recognize that an additional 1,000 acre-feet of fourth-priority water was added under a subcontract with Bullhead City from 6,000 acre-feet of fourth-priority water to 7,000 acre-feet of fourth-priority water; (3) recognize that an additional 1,000 acre-feet of fourth-priority water was added under a subcontract with Lake Havasu City from 6,000 acre-feet of fourth-priority water to 7,000 acre-feet of fourth-priority water; and (4) recognize that a new subcontract has been entered into between the Authority and Mohave Valley IDD for 1,000 acre-feet of fourth-priority water. Contract executed April 26, 2010.

20. Mohave County Water Authority, BCP, Arizona: Amend Exhibit E to Contract No. 5-07-30-W0320 to (1) supersede and replace the “Procedures for Obtaining a Subcontract From the Mohave County Water Authority” dated December 12, 1995, with “Mohave County Water Authority-Operating Procedure No. 04-01” amended October 21, 2009, and (2) include a copy of “Mohave County Water Authority-Operating Procedure No. 09-01” adopted October 21, 2009. Contract executed April 26, 2010.

21. Water Utility of Greater Buckeye, CAP, Arizona: Proposed assignment of the Utility's CAP entitlement of 43 acre-feet annually to the Valencia Water Company per the Utility's request and as recommended by the Arizona Department of Water Resources. Contract executed May 24, 2010.

22. Tonto Hills Utility Company, CAP, Arizona: Proposed assignment of the Company's CAP entitlement of 71 acre-feet annually to the Tonto Hills Domestic Water Improvement District per the District's request pending recommendation by the Arizona Department of Water Resources. Contract executed June 22, 2010.

Upper Colorado Region: Bureau of Reclamation, 125 South State Street, Room 6107, Salt Lake City, Utah 84138-1102, telephone 801-524-3864.

New contract actions:

1.(c) Liman, LLC, Aspinall Storage Unit, CRSP: Liman, LLC has requested a 40-year water service contract for 3 acre-feet of M&I water out of Blue Mesa Reservoir, which requires Liman to present a Plan of Augmentation to the Division 4 Water Court.

1.(d) Ranch Properties, Aspinall Storage Unit, CRSP: Ranch Properties has requested a 40-year water service contract for 3 acre-feet of M&I water out of Blue Mesa Reservoir, which requires Ranch Properties to present a Plan of Augmentation to the Division 4 Water Court.

1.(e) Leroux Creek Acre Domestic Water Company, Aspinall Storage Unit, CRSP: Leroux Creek Acre has requested a 40-year water service contract for 3 acre-feet of M&I water out of Blue Mesa Reservoir, which requires Leroux to present a Plan of Augmentation to the Division 4 Water Court.

37. Voiles, Katherine Marie and William Thomas, Mancos Project, Colorado: Katherine Marie and William Thomas Voiles have requested a new carriage contract to replace existing contract No. 14-06-400-4901, assignment No. 2-A. The new contract is the result of a property sale. Remaining interest in the existing assignment is for 0.38 cubic feet per second of nonproject water to be carried through Mancos Project facilities.

38. Hanson, Brian E. and Joan M. Brake-Hanson, Mancos Project, Colorado: Brian E. Hanson and Joan M. Brake-Hanson have requested a new carriage contract to replace existing contract No. 14-06-400-4901, assignment No. 5. The new contract is the result of a property sale. Remaining interest in the existing assignment is for 0.12 cubic feet per second of nonproject water to be carried through Mancos Project facilities.

Modified contract action:

17. State of Colorado, Animas-La Plata Project, Colorado and New Mexico: Cost-sharing/repayment contract for up to 10,460 acre-feet per year of M&I water; contract terms to be consistent with the Colorado Ute Settlement Act Amendments of 2000 (Title III of Pub. L. 106-554).

Completed contract actions:

8. Mancos Water Conservancy District, Mancos Project, Colorado: The Congress has authorized funding, not to exceed $8.25 million, for the Jackson Gulch Rehabilitation Project to include the inlet and outlet canals, and operations facilities. The District will enter into a contract for repayment of 35 percent of the cost of the project or $2.9 million, whichever is less. Contract executed July 9, 2010.

13. Provo River Water Users Association, Central Utah Water Conservancy District, Jordan Valley Water Conservancy District, Provo Reservoir Water Users Company, and Bureau of Reclamation: Carriage contract for up to 358 cfs in the enclosed Provo Reservoir Canal. This contract is pursuant to the Warren Act; section 4 of the Provo River Project Transfer Act (Pub. L. 108-719); and section 2 of the Act of December 19, 2002 (Pub. L. 107-366). Contract executed February 24, 2010.

Great Plains Region: Bureau of Reclamation, P.O. Box 36900, Federal Building, 316 North 26th Street, Billings, Montana 59101, telephone 406-247-7752.

New contract action:

49. Garrison Diversion Conservancy District, Garrison Diversion Unit, P-SMBP, North Dakota: Intent to enter into a long-term irrigation or miscellaneous use water service contract to provide up to 14,000 acre-feet of water annually for a term of up to 40 years, to authorized areas in conformance with the Dakota Water Resources Act of 2000.

Modified contract actions:

31. State of Kansas Department of Wildlife and Parks, Glen Elder Unit, P-SMBP, Kansas: Intent to enter into a contract for the remaining conservation storage in Waconda Lake for recreation and fish and wildlife purposes.

38. Frenchman Valley ID, Frenchman-Cambridge Division, P-SMBP, Nebraska: Intent to enter into a contract for repayment of extraordinary maintenance work on stilling basin outlet works at Enders Dam, in accordance with Subtitle G of Pub. L. 111-11.

40. Individual irrigators, Cambridge Unit, Frenchman-Cambridge Division, P-SMBP, Nebraska: Intent to enter into a long-term excess capacity contract for conveyance of nonproject irrigation water through project facilities.

Discontinued contract actions:

36. Loup Valley's Rural Public Power District, North Loup Division, P-SMBP, Nebraska: Proposed sale of Reclamation's share in joint-owned power line to the co-owner of the line.

39. H & RW ID, Frenchman-Cambridge Division, P-SMBP, Nebraska: Consideration of a request for a repayment contract for outlet works modification at Enders Dam, in accordance with the Omnibus Public Lands Management Act of 2009.

Completed contract actions:

13. Colorado Springs Utilities, Colorado-Big Thompson Project, Colorado Springs, Colorado: Consideration of a request for a long-term agreement for water substitution and power interference in the Colorado-Big Thompson Project. Water substitution agreement executed February 22, 2010, and the power interference agreement executed October 10, 2010.

23. Helena Sand & Gravel, Helena Valley Unit, P-SMBP, Montana: Request for a long-term water service contract for M&I purposes up to 1,000 acre-feet per year. Contract executed January 1, 2010.

29. Glen Elder ID, Glen Elder Unit, P-SMBP, Kansas: Intent to enter into a contract for repayment of extraordinary maintenance work on the spillway structure in accordance with ARRA. Contract executed August 26, 2010.

30. Glen Elder ID, Glen Elder Unit, P-SMBP, Kansas: Amendment to extend the expiration date of the water service contract and renewal of long-term water service contract. Contract executed July 29, 2010.

35. State of Wyoming, Pathfinder Dam and Reservoir, North Platte Project, Wyoming: The state of Wyoming has requested a water service contract for water to be stored in Pathfinder Reservoir associated with the implementation of the Pathfinder Modification Project. Contract executed June 14, 2010.

37. Northern Colorado Water Conservancy District, Colorado Big Thompson Project, Colorado: Intent to enter into a contract for repayment of extraordinary maintenance work on the Pole Hill Canal in accordance with ARRA. Contract executed July 8, 2010.

41. Southeastern Colorado Water Conservancy District, Fryingpan-Arkansas Project, Colorado: Consideration of a request to amend the existing water service contract to adjust the annual project water payments. Contract executed September 14, 2010.

Dated: November 22, 2010.
Roseann Gonzales,
Director, Policy and Administration, Denver Office.

[FR Doc. 2010-32751 Filed 12-28-10; 8:45 am]

BILLING CODE 4310-MN-P